DEPARTMENT OF ENERGY

Enhanced (Engineered) Geothermal Systems (EGS) Research and Development (R&D)

AGENCY: Golden Field Office, U.S. Department of Energy.

ACTION: Notice of issuance of funding announcement number DE-PS36-04GO94001.

SUMMARY: The U.S. Department of Energy's (DOE) Office of Energy Efficiency and Renewable Energy (EERE) is seeking applications for research projects to expand the Enhanced (Engineered) Geothermal Systems (EGS) knowledge base. Through financial assistance awards, DOE intends to provide financial support for research directed to improving the technology to recover heat from rock with low permeability and at greater depth than presently feasible. This program is authorized under provisions of the “Geothermal Energy Research, Development, and Demonstration Act of 1976,” Pub. L. 93-410.

DATES: Issuance of the announcement is planned for November 12, 2003.

ADDRESSES: To obtain a copy of the announcement, interested parties should access the DOE Golden Field Office Home Page at http://www.golden.doe.gov/businessopportunities.html, click on “Solicitations,” and then access the announcement number identified above. The Golden Home Page will provide a link to the announcement number in the Industry Interactive Procurement System (IIPS) Web site and provide instructions on using IIPS. The announcement can also be obtained directly through IIPS at http://e-center.doe.gov by browsing opportunities by Contract Activity, for those announcements issued by the Golden Field Office. DOE will not issue paper copies of the announcement.

FOR FURTHER INFORMATION CONTACT: Questions regarding this announcement should be submitted electronically through IIPS by “submitting a question” on the IIPS “Finanicial Assistance Form” specific to this announcement. Response to questions will be posted on IIPS and available through “View Questions.”

IIPS provides the medium for disseminating announcements, receiving financial assistance applications, and evaluating the applications in a paperless environment. The application may be submitted by the applicant or a designated representative that receives authorization from the applicant; however, the application documentation must reflect the name and title of the representative authorized to enter the applicant into a legally binding agreement. The applicant or the designated representative must first register in IIPS, entering their first name and last name, then entering the company name/address of the applicant.

For questions regarding the operation of IIPS, contact the IIPS Help Desk at IIPS_HelpDesk@e-center.doe.gov or at (800) 683-0751.

Issued in Golden, Colorado, on November 12, 2003.
Jerry L. Zimmer,
Director, Office of Acquisition and Financial Assistance.

[FR Doc. 03-29252 Filed 11-21-03; 8:45 am]

BILLING CODE 6450-01-P